DEPARTMENT OF COMMERCE

National Oceanic and Atmospheric Administration

[I.D. 032100A]

National Plan of Action for the Conservation and Management of Sharks

AGENCY: National Marine Fisheries Service (NMFS), National Oceanic and Atmospheric Administration (NOAA), Commerce.

ACTION: Notice of revised timeframe.

SUMMARY: On September 30, 1999, NMFS announced its intention to develop a National Plan of Action (NPOA) pursuant to the endorsement of the International Plan of Action (IPOA) for the Conservation and Management of Sharks by the United Nations Food and Agriculture Organization (FAO) Committee on Fisheries (COFI) Ministerial Meeting in March 1999. Noting the increased concern about the expanding catches of sharks and their potential negative impacts on shark populations, this IPOA calls on COFI member states to develop voluntarily national plans to ensure the conservation and management of sharks for their long-term sustainable use. The United States has committed to reporting on the implementation of the NPOA to COFI, no later than the 25th COFI session in February 2001. This document provides a revised time frame for the completion of this NPOA.

ADDRESSES: Written comments should be sent to Karyl Brewster-Geisz, NOAA Fisheries / SF1, 1315 East-West Highway, Silver Spring, MD 20910.

FOR FURTHER INFORMATION CONTACT: Karyl Brewster-Geisz, Margo Schulze-Haugen, or Steve Meyers, 301-713-2347, or fax 301-713-1917.

SUPPLEMENTARY INFORMATION: The IPOA for the conservation and management of sharks was endorsed in principle at the 23rd FAO COFI session in February 1999 and also at the Fisheries Ministerial Meeting in March 1999. As with the two other IPOAs for seabirds and fishing capacity, the IPOA for sharks calls on members to develop voluntarily an NPOA on this issue.

On September 30, 1999, NMFS announced that the NPOA was currently under development, with a draft NPOA for sharks tentatively due for publication in the Federal Register in December, 1999, and full completion by February, 2000 (64 FR 52772). Unforseen circumstances require NMFS to change the schedule on the availability of the draft and final NPOA. NMFS now tentatively expects to have a draft NPOA for sharks available for public review in June, 2000, and a final NPOA available in September, 2000.

Dated: March 21, 2000.
Gary C. Matlock,
Director, Office of Sustainable Fisheries, National Marine Fisheries Service.

[FR Doc. 00-7504 Filed 3-24-00; 8:45 am]

BILLING CODE 3510-22-F